INTERNATIONAL TRADE COMMISSION

[Investigation No. 337-TA-1251]

Certain Cellular Signal Boosters, Repeaters, Bi-Directional Amplifiers, and Components Thereof (III) Institution of Investigation

AGENCY: U.S. International Trade Commission.

ACTION: Notice.

SUMMARY: Notice is hereby given that a complaint was filed with the U.S. International Trade Commission on January 21, 2021, under section 337 of the Tariff Act of 1930, as amended, on behalf of Wilson Electronics LLC of St. George, Utah. Supplements were filed on February 1, 8, and 11, 2021. The complaint, as supplemented, alleges violations of section 337 based upon the importation into the United States, the sale for importation, and the sale within the United States after importation of certain cellular signal boosters, repeaters, bi-directional amplifiers, and components thereof by reason of infringement of certain claims of U.S. Patent No. 7,221,967 (“the '967 patent”); U.S. Patent No. 7,409,186 (“the '186 patent”); U.S. Patent No. 7,486,929 (“the '929 patent”); U.S. Patent No. 7,729,669 (“the '669 patent”); U.S. Patent No. 7,783,318 (“the '318 patent”); U.S. Patent No. 8,583,033 (“the '033 patent”); U.S. Patent No. 8,583,034 (“the '034 patent”); U.S. Patent No. 8,639,180 (“the '180 patent”); U.S. Patent No. 8,755,399 (“the '399 patent”); U.S. Patent No. 8,849,187 (“the '187 patent”); U.S. Patent No. 8,874,029 (“the '029 patent”); and U.S. Patent No. 8,874,030 (“the '030 patent”). The complaint, as supplemented, further alleges that an industry in the United States exists as required by the applicable Federal Statute.

The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on February 19, 2021, ordered that—

(1) Pursuant to section 210.10(a)(6) of the Commission's Rules of Practice and Procedure, 19 CFR 210.10(a)(6), three separate investigations be instituted based on the complaint to further efficient adjudication, one of which is instituted by this notice of investigation, and that this decision shall not preclude the presiding Administrative Law Judge from further severing the investigation pursuant to section 210.14(h) of the Commission's Rules of Practice and Procedure, 19 CFR 210.14(h), if appropriate;

(2) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 5-7, 10, and 14 of the '929 patent; claim 1 of the '186 patent; claims 1-7 and 10-12 of the '399 patent; and claims 1-3 of the '187 patent; and whether an industry in the United States exists as required by subsection (a)(2) of section 337;

(3) Pursuant to section 210.10(b)(1) of the Commission's Rules of Practice and Procedure, 19 CFR 210.10(b)(1), the plain language description of the accused products or category of accused products, which defines the scope of the investigation, is “cellular signal boosters, cellular repeaters, bi-directional cellular signal amplifiers, and components such as low-noise amplifiers, power amplifiers, filters, duplexers, triplexers, multiplexers, attenuators, power detectors, microcontrollers, and processors”;

(4) For the purpose of the investigation so instituted, the following are hereby named as parties upon which this notice of investigation shall be served:

(a) The complainant is: Wilson Electronics LLC, 3301 E Desert Drive, St. George, UT 84790.

(b) The respondents are the following entities alleged to be in violation of section 337, and are the parties upon which the complaint is to be served: Cellphone-Mate, Inc. d/b/a SureCall, 48346 Milmont Drive, Fremont, CA 94538; Shenzhen SureCall Communication Technology Co., Ltd., Yangtian Rd. 72 Area Baoan District, Shenzhen, China, 518040.

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 22, 2021.
Lisa Barton,
Secretary to the Commission.

[FR Doc. 2021-03895 Filed 2-24-21; 8:45 am]

BILLING CODE 7020-02-P